OFFICE OF PERSONNEL MANAGEMENT

Submission for Review: Self-Certification of Full-Time School Attendance for the School Year, RI 25-14 and Information and Instructions for Completing the Self-Certification of Full-Time School Attendance for the School Year, RI 25-14A

AGENCY: U.S. Office of Personnel Management.

ACTION: 30-Day notice and request for comments.

SUMMARY: The Retirement Services, Office of Personnel Management (OPM) offers the general public and other Federal agencies the opportunity to comment on an extension, without change, of a currently approved information collection request (ICR), Self-Certification of Full-Time School Attendance For The School Year, RI 25-14 and Information and Instructions for Completing the Self-Certification of Full-Time School Attendance For The School Year, RI 25-14A.

DATES: Comments are encouraged and will be accepted until April 13, 2017.

ADDRESSES: Interested persons are invited to submit written comments on the proposed information collection to Office of Information and Regulatory Affairs, Office of Management and Budget, 725 17th Street NW., Washington, DC 20503, Attention: Desk Officer for the Office of Personnel Management or sent by email to oira_submission@omb.eop.gov or faxed to (202) 395-6974.

FOR FURTHER INFORMATION CONTACT: A copy of this ICR, with applicable supporting documentation, may be obtained by contacting the Office of Information and Regulatory Affairs, Office of Management and Budget, 725 17th Street NW., Washington, DC 20503, Attention: Desk Officer for the Office of Personnel Management or sent by email to oira_submission@omb.eop.gov or faxed to (202) 395-6974.

SUPPLEMENTARY INFORMATION: As required by the Paperwork Reduction Act of 1995, (Pub. L. 104-13, 44 U.S.C. chapter 35) as amended by the Clinger-Cohen Act (Pub. L. 104-106), OPM is soliciting comments for this collection. The information collection (OMB No. 3206-0032) was previously published in the Federal Register on September 21, 2016 at 81 FR 64956 allowing for a 60-day public comment period. No comments were received for this information collection.

The purpose of this notice is to allow an additional 30 days for public comments. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and minimize the burden of the collection of information on those who are to respond, including through the use of appropriate automated, electronic, mechanical, or other technological collection techniques or other forms of information technology, e.g., permitting electronic submissions of responses.

Form RI 25-14 is used to survey survivor annuitants who are between the ages of 18 and 22 to determine if they meet the requirements of Section 8341(a)(4)(C), and Section 8441, title 5, U.S. Code, to receive benefits as a student. RI 25-14A provides instructions for completing the Self-Certification of Full-Time School Attendance for the School Year survey form.

Analysis

Agency: Retirement Operations, Retirement Services, Office of Personnel Management.

Title: Self-Certification of Full-Time School Attendance for the School Year and Information and Instructions for Completing the Self-Certification of Full-Time School Attendance for the School Year.

OMB Number: 3206-0032.

Frequency: On occasion.

Affected Public: Individuals or Households.

Number of Respondents: 14,000.

Estimated Time per Respondent: 12 minutes.

Total Burden Hours: 2,800.

U.S. Office of Personnel Management.
Kathleen McGettigan,
Acting Director.

[FR Doc. 2017-04935 Filed 3-13-17; 8:45 am]

BILLING CODE 6325-38-P